DEPARTMENT OF COMMERCE

National Oceanic and Atmospheric Administration

RIN 0648-XG278

Pacific Fishery Management Council; Public Meeting

AGENCY: National Marine Fisheries Service (NMFS), National Oceanic and Atmospheric Administration (NOAA), Commerce.

ACTION: Notice of public meetings.

SUMMARY: The Pacific Fishery Management Council's (Pacific Council) Salmon Technical Team (STT) will hold a series of meetings to initiate the development of salmon rebuilding plans for Klamath River fall Chinook, Sacramento River fall Chinook, Strait of Juan de Fuca natural coho, Queets River natural coho, and Snohomish River natural coho. These meetings are open to the public.

DATES: The meetings will be held June 20, 2018 through June 28, 2018. See SUPPLEMENTARY INFORMATION for specific dates and times.

ADDRESSES: The STT meetings for Klamath River fall Chinook and Sacramento River fall Chinook will be held in the Siskiyou Room at the Red Lion Hotel, 1830 Hilltop Drive, Redding, CA 96002; telephone: (530) 221-8700.

The STT meeting for Strait of Juan de Fuca natural coho will be held in Room 261 at the National Oceanic and Atmospheric Administration West Coast Region Office, 510 Desmond Drive SE, Lacy, WA 98503; telephone: (360) 753-9530. Please check-in at the U.S. Fish and Wildlife's reception desk for security clearance.

The STT meetings for Queets River natural coho and Snohomish River natural coho will be held in the large conference room at the Northwest Indian Fisheries Commission, 6730 Martin Way East, Olympia, WA 98516; telephone: (360) 438-1180.

Council address: Pacific Fishery Management Council, 7700 NE Ambassador Place, Suite 101, Portland, OR 97220-1384.

FOR FURTHER INFORMATION CONTACT: Ms. Robin Ehlke, Pacific Council; telephone: (503) 820-2410.

SUPPLEMENTARY INFORMATION:

The STT meeting for Klamath River fall Chinook will be held Wednesday, June 20, 2018, from 10 a.m. to 5 p.m., or until business for the day has been completed.

The STT meeting for Sacramento River fall Chinook will be held Thursday, June 21, 2018, from 10 a.m. to 5 p.m., or until business for the day has been completed.

The STT meeting for Strait of Juan de Fuca natural coho will be held Tuesday, June 26, 2018, from 10 a.m. to 5 p.m., or until business for the day has been completed.

The STT meeting for Queets River natural coho will be held Wednesday, June 27, 2018, from 10 a.m. to 5 p.m., or until business for the day has been completed.

The STT meeting for Snohomish River natural coho will be held Thursday, June 28, 2018, from 10 a.m. to 5 p.m., or until business for the day has been completed.

Three natural coho stocks (Queets coho, Strait of Juan de Fuca coho, and Snohomish coho) and two Chinook stocks (Sacramento River fall Chinook and Klamath River fall Chinook) were found to meet the criteria for being classified as overfished in the PFMC Review of 2017 Ocean Salmon Fisheries. Under the tenets of the Salmon Fishery Management Plan (FMP), the STT is required to develop a salmon rebuilding plan for each of these stocks and propose them to the Council within one year.

The STT will meet with tribal, state, and other management entities who will work with the STT to provide data and expertise on pertinent topics to be included in each rebuilding plan, consistent with the FMP. Discussions may include, but are not limited to, work flow, document structure, and timeline. One meeting will occur for each of the five stocks; additional meetings will be scheduled as needed. These work sessions are open to the public.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at kris.kleinschmidt@noaa.gov or (503) 820-2411 at least 10 days prior to the meeting date.

Dated: June 4, 2018.
Tracey L. Thompson,
Acting Deputy Director, Office of Sustainable Fisheries, National Marine Fisheries Service.

[FR Doc. 2018-12289 Filed 6-6-18; 8:45 am]

BILLING CODE 3510-22-P